FEDERAL RESERVE SYSTEM

Notice of Proposals to Engage in Permissible Nonbanking Activities or to Acquire Companies that are Engaged in Permissible Nonbanking Activities

The companies listed in this notice have given notice under section 4 of the Bank Holding Company Act (12 U.S.C. 1843) (BHC Act) and Regulation Y (12 CFR Part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than September 4, 2007.

A. Federal Reserve Bank of New York (Anne MacEwen, Bank Applications Officer) 33 Liberty Street, New York, New York 10045-0001:

1. Banco Latinoamericano de Exportaciones S.A., Panama City, Republic of Panama; to engage de novo through its subsidiary, Bladex Asset Managment, New York, New York, in serving as investment adviser, including sponsoring, organizing and managing a closed-end investment company, pursuant to section 225.28(b)(6)(i); furnishing general economic information and advice, general economic statistical forecasting services, and industry studies, pursuant to section 225.28(b)(6)(ii); providing advice in connection with mergers, acquisitions, divestitures, investments, joint ventures, leveraged buyouts, recapitalizations, capital structurings, financing transactions and similar transactions, and conducting financial feasibility studies, pursuant to section 225.28(b)(6)(iii); providing information, statistical forecasting, and advice with respect to any transaction in foreign exchange, swaps, and similar transactions, commodities, and any forward contract, option, future, option on a future, and similar instruments, pursuant to section 225.28(b)(6)(iv); providing educational courses, and instructional materials to consumers on individual financial management matters, pursuant to section 225.28(b)(6)(v); and providing tax-planning and tax-preparation services to any person, pursuant to section 225.28(b)(6)(vi), all of Regulation Y. In addition, Applicant also has applied to engage in providing administrative services to mutual funds, including, but not limited do, recordkeeping, providing legal and regulatory advice, developing compliance procedures, preparing reports and tax returns, and coordinating with the funds' other advisers and service providers. See Dresdner Bank AG, 82 Federal Reserve Bulletin 676 (1996).

Board of Governors of the Federal Reserve System, August 15, 2007.
Jennifer J. Johnson,
Secretary of the Board.

[FR Doc.E7-16296 Filed 8-19-07; 8:45 am]

BILLING CODE 6210-01-S